FEDERAL RETIREMENT THRIFT INVESTMENT BOARD

5 CFR Parts 1630, 1631, and 1632

Change of Address and Electronic Submission of FOIA Requests

AGENCY: Federal Retirement Thrift Investment Board.

ACTION: Direct final rule.

SUMMARY: The Federal Retirement Thrift Investment Board (Agency) is amending its regulations to reflect its new office address and to permit Freedom of Information Act (FOIA) requests via electronic mail and facsimile.

DATES: This rule is effective April 12, 2012 without further action, unless adverse comment is received by March 28, 2012. If adverse comment is received, the Federal Retirement Thrift Investment Board will publish a timely withdrawal of the rule in the Federal Register.

FOR FURTHER INFORMATION CONTACT: Amanda Haas at 202-942-1660.

SUPPLEMENTARY INFORMATION: The Agency administers the Thrift Savings Plan (TSP), which was established by the Federal Employees' Retirement System Act of 1986 (FERSA), Public Law 99-335, 100 Stat. 514. The TSP provisions of FERSA are codified, as amended, largely at 5 U.S.C. 8351 and 8401-79. The TSP is a tax-deferred retirement savings plan for Federal civilian employees and members of the uniformed services. The TSP is similar to cash or deferred arrangements established for private-sector employees under section 401(k) of the Internal Revenue Code (26 U.S.C. 401(k)).

Address Change

The Agency has moved its headquarters to a new location in Washington, DC. This amendment to the Agency's regulations revises all references to the location of the Agency to reflect its new address.

Electronic Submission of Freedom of Information Act Requests

Section 1631.6(a) currently permits submission of FOIA requests by postal mail only. The Agency is amending section 1631.6(a) to permit submission of FOIA requests by electronic mail and facsimile.

Regulatory Flexibility Act

I certify that this regulation will not have a significant economic impact on a substantial number of small entities. This regulation will primarily affect Federal employees and members of the uniformed services who participate in the Thrift Savings Plan, which is a Federal defined contribution retirement savings plan created under the Federal Employees' Retirement System Act of 1986 (FERSA), Public Law 99-335, 100 Stat. 514, and which is administered by the Agency.

Paperwork Reduction Act

I certify that these regulations do not require additional reporting under the criteria of the Paperwork Reduction Act.

Unfunded Mandates Reform Act of 1995

Pursuant to the Unfunded Mandates Reform Act of 1995, 2 U.S.C. 602, 632, 653, 1501-1571, the effects of this regulation on state, local, and tribal governments and the private sector have been assessed. This regulation will not compel the expenditure in any one year of $100 million or more by state, local, and tribal governments, in the aggregate, or by the private sector. Therefore, a statement under section 1532 is not required.

Submission to Congress and the General Accounting Office

Pursuant to 5 U.S.C. 810(a)(1)(A), the Agency submitted a report containing this rule and other required information to the U.S. Senate, the U.S. House of Representatives, and the Comptroller General of the United States before publication of this rule in the Federal Register. This rule is not a major rule as defined at 5 U.S.C. 804(2).

List of Subjects

5 CFR Part 1630

Privacy.

5 CFR Part 1631

Courts, Freedom of information, Government employees.

5 CFR Part 1632

Sunshine Act.

Gregory T. Long,
Executive Director, Federal Retirement Thrift Investment Board.

For the reasons stated in the preamble, the Agency amends 5 CFR chapter VI as follows:

PART 1630—PRIVACY ACT REGULATIONS

1. The authority citation for part 1630 continues to read as follows:

Authority: 5 U.S.C. 552a.

2. Amend § 1630.4(b) by removing “1250 H Street, NW., Washington, DC 20005” and adding in its place “77 K Street, NE., Suite 1000, Washington, DC 20002”.

3. Amend § 1630.13(a) by removing “1250 H Street, NW., Washington, DC 20005” and adding in its place “77 K Street, NE., Suite 1000, Washington, DC 20002”.

PART 1631—AVAILABILITY OF RECORDS

4. The authority citation for part 1631 continues to read as follows:

Authority: 5 U.S.C. 552.

5. Amend § 1631.3(b) by removing “1250 H Street, NW., Washington, DC 20005” and adding in its place “77 K Street, NE., Suite 1000, Washington, DC 20002”.

6. Amend § 1631.4(a) by removing “room 4308 at 1250 H Street, NW., Washington, DC” and adding in its place “room 11-019 at 77 K Street, NE., Suite 1000, Washington, DC 20002”.

7. Amend § 1631.6 by revising paragraph (a) to read as follows:

§ 1631.6 How to request records—form and content.

(a) A request made under the FOIA may be submitted by one of the following methods:

(1) In writing addressed to FOIA Officer, Federal Retirement Thrift Investment Board, 77 K Street NE., Suite 1000, Washington, DC 20002. The words “FOIA Request” must be clearly marked on both the letter and the envelope.

(2) By electronic mail at FOIAREQUEST@tsp.gov. The subject must include the words “FOIA Request.”

(3) By facsimile, Attn: FOIA Officer, at (202) 942-1776. The facsimile must be clearly marked with the words “FOIA Request.”

* * * * *

8. Amend § 1631.10(a) by removing “1250 H Street, NW., Washington, DC 20005” and adding in its place “77 K Street, NE., Suite 1000, Washington, DC 20002”.

PART 1632—RULES REGARDING PUBLIC OBSERVATION OF MEETINGS

9. The authority citation for part 1632 continues to read as follows:

Authority: 5 U.S.C. 552b and 5 U.S.C. 8474.

10. Amend § 1632.4(c) by removing “1250 H Street, NW., Washington, DC 20005” and adding in its place “77 K Street, NE., Suite 1000, Washington, DC 20002”.

11. Amend § 1632.11(b) by removing “1250 H Street, NW., Washington, DC 20005” and adding in its place “77 K Street, NE., Suite 1000, Washington, DC 20002.”

[FR Doc. 2012-4491 Filed 2-24-12; 8:45 am]

BILLING CODE 6760-01-P